INTERNATIONAL TRADE COMMISSION

[Investigation No. 731-TA-1528 (Preliminary)]

Seamless Refined Copper Pipe and Tube From Vietnam

Determination

On the basis of the record ¹ developed in the subject investigation, the United States International Trade Commission (“Commission”) determines, pursuant to the Tariff Act of 1930 (“the Act”), that there is a reasonable indication that an industry in the United States is materially injured by reason of imports of seamless refined copper pipe and tube from Vietnam, provided for in subheading 7411.10.10 of the Harmonized Tariff Schedule of the United States, that are alleged to be sold in the United States at less than fair value (“LTFV”).²

¹ The record is defined in § 207.2(f) of the Commission's Rules of Practice and Procedure (19 CFR 207.2(f)).

² 85 FR 47181 (August 4, 2020).

Commencement of Final Phase Investigation

Pursuant to section 207.18 of the Commission's rules, the Commission also gives notice of the commencement of the final phase of its investigation. The Commission will issue a final phase notice of scheduling, which will be published in the Federal Register as provided in section 207.21 of the Commission's rules, upon notice from the U.S. Department of Commerce (“Commerce”) of an affirmative preliminary determination in the investigation under § 733(b) of the Act, or, if the preliminary determination is negative, upon notice of an affirmative final determination in that investigation under § 735(a) of the Act. Parties that filed entries of appearance in the preliminary phase of the investigation need not enter a separate appearance for the final phase of the investigation. Industrial users, and, if the merchandise under investigation is sold at the retail level, representative consumer organizations have the right to appear as parties in Commission antidumping investigations. The Secretary will prepare a public service list containing the names and addresses of all persons, or their representatives, who are parties to the investigation.

Background

On June 30, 2020, the American Copper Tube Coalition, consisting of Mueller Group, Collierville, Tennessee, and Cerro Flow Products, LLC, Sauget, Illinois, filed a petition with the Commission and Commerce, alleging that an industry in the United States is materially injured or threatened with material injury by reason of LTFV imports of seamless refined copper pipe and tube from Vietnam. Accordingly, effective June 30, 2020, the Commission instituted antidumping duty investigation No. 731-TA-1528 (Preliminary).

Notice of the institution of the Commission's investigation and of a public conference to be held in connection therewith was given by posting copies of the notice in the Office of the Secretary, U.S. International Trade Commission, Washington, DC, and by publishing the notice in the Federal Register of July 7, 2020 (85 FR 40680). In light of the restrictions on access to the Commission building due to the COVID-19 pandemic, the Commission conducted its conference through written questions, submissions of opening remarks and written testimony, written responses to questions, and postconference briefs. All persons who requested the opportunity were permitted to participate.

The Commission made this determination pursuant to § 733(a) of the Act (19 U.S.C. 1673b(a)). It completed and filed its determination in this investigation on August 14, 2020. The views of the Commission are contained in USITC Publication 5108 (August 2020), entitled Seamless Refined Copper Pipe and Tube from Vietnam: Investigation No. 731-TA-1528 (Preliminary).

By order of the Commission.
Issued: August 14, 2020.
William Bishop,
Supervisory Hearings and Information Officer.

[FR Doc. 2020-18201 Filed 8-19-20; 8:45 am]

BILLING CODE 7020-02-P